DEPARTMENT OF THE INTERIOR

Office of the Secretary

[FWS-HQ-FAC-2016-N074; FF09F42300-FVWF97920900000-XXX]

Sport Fishing and Boating Partnership Council Charter

AGENCY: Office of the Secretary, Interior.

ACTION: Notice of renewal.

SUMMARY: Following consultation with the General Services Administration, the Secretary of the Interior has renewed the Sport Fishing and Boating Partnership Council (Council) charter for 2 years. A Federal advisory committee, the Council will foster partnerships to enhance public awareness of the importance of aquatic resources and the social and economic benefits of recreational fishing and boating in the United States.

FOR FURTHER INFORMATION CONTACT: Brian Bohnsack, Council Coordinator, by telephone at 703-358-2435, or by email at brian_bohnsack@fws.gov.

SUPPLEMENTARY INFORMATION: The Council will advise the Secretary of the Interior on aquatic conservation endeavors that foster partnerships to benefit recreational fishery resources and recreational boating, and that encourage partnerships among industry, the public, and government. The Council will conduct its operations in accordance with the provisions of the FACA (5 U.S.C. Appendix). It will report to the Secretary of the Interior, through the Director of the U.S. Fish and Wildlife Service. The Council will function solely as an advisory body.

Certification: I hereby certify that the Sport Fishing and Boating Partnership Council is necessary and is in the public interest in connection with the performance of duties imposed on the Department of the Interior under the Fish and Wildlife Act of 1956 (16 U.S.C. 742a-742j), the Federal Aid in Sport Fish Restoration Act (16 U.S.C. 777-777k), the Fish and Wildlife Coordination Act (16 U.S.C. 661-667e), and Executive Order 12962 of June 7, 1995 (60 FR 30769; June 9, 1995), as amended by Executive Order 13474 of September 26, 2008 (73 FR 57229; October 1, 2008).

Dated: May 24, 2016.
Sally Jewell,
Secretary of the Interior.

[FR Doc. 2016-13986 Filed 6-13-16; 8:45 am]

BILLING CODE 4310-15-P